DEPARTMENT OF ENERGY

Bonneville Power Administration

South Fork Flathead Watershed/Westslope Cutthroat Trout Conservation Program

AGENCY: Bonneville Power Administration (BPA), Department of Energy (DOE).

ACTION: Notice of intent to prepare an Environmental Impact Statement (EIS).

SUMMARY: This notice announces BPA's intention to prepare an EIS on removal of all fish from selected lakes in the South Fork of the Flathead River drainage that harbor non-native species that threaten to genetically contaminate native fish in streams leading from those lakes, down into the South Fork Flathead River and Hungry Horse Reservoir. The specific lakes proposed for treatment are located in the Montana Counties of Flathead, Missoula, and Powell. This proposed action would take place within floodplains and waters located directly adjacent to and below the high water marks of these lakes.

DATES: Written comments are due to the address below no later than June 19, 2003. Comments may also be made at an EIS scoping meeting open house to be held on May 22, 2003, at the time and address below.

ADDRESSES: Send letters with comments and suggestions on the proposed scope of the Draft EIS that is being developed, and requests to be placed on the project mailing list, to Communications, Bonneville Power Administration—DM-7, P.O. Box 12999, Portland, Oregon, 97212. Comments may also be sent to the BPA Internet address at comment@bpa.gov.

On May 22, 2003, a scoping meeting open house will be held from 4 p.m. to 8 p.m. at the Regional Headquarters of Montana Fish, Wildlife & Parks, 490 N. Meridian Road, Kalispell, Montana.

Information about the project can also be obtained from a BPA website at: http://www.efw.bpa.gov/cgi-bin/PSA/NEPA/SUMMARIES/MountainLakesTrout.

FOR FURTHER INFORMATION, CONTACT: Colleen Spiering, Environmental Project Manager, Bonneville Power Administration—KEC-4, P.O. Box 3621, Portland, Oregon, 97208-3621; direct telephone number 503-230-5756; toll-free telephone number 1-800-282-3713; fax number 503-230-5699; e-mail address: caspiering@bpa.gov.

SUPPLEMENTARY INFORMATION: Lead and Cooperating Agencies: BPA shall be the lead agency in preparing and issuing an EIS for this project. The United States Forest Service (USFS), Flathead National Forest, Department of Agriculture; and Montana Fish Wildlife & Parks (MFWP) will participate as cooperating agencies.

Responsible Officials:

• Stephen J. Wright, Administrator and Chief Executive Officer, Bonneville Power Administration, PO Box 3621, Portland, Oregon, 97208-3621.

• Cathy Barbouletos, Forest Supervisor, Flathead National Forest, 1935 3rd Ave. East, Kalispell, Montana, 59901.

• Dan Vincent, Regional Supervisor, Montana Fish, Wildlife & Parks, 490 North Meridian Road, Kalispell, Montana, 59901.

Nature of Decisions To Be Made: BPA will be deciding whether to fund the project. USFS will determine if the use of fish toxins and motorized equipment will be permitted in the Bob Marshall Wilderness, the Jewel Basin Hiking Area, and the Flathead National Forest. The rationales for the decisions will be documented in two separate Records of Decision. The USFS decision will be subject to appeal under applicable USFS regulations.

Background: The South Fork Flathead River, above Hungry Horse Dam, contains one of the largest natural populations of native westslope cutthroat trout in the nation. Hungry Horse Dam protects the entire South Fork drainage from exotic fish invasion from fish downstream of the dam. Further protection is afforded in that the entire watershed is on National Forest land, wilderness, and proposed wilderness. However, numerous lakes that drain into the South Fork contain non-native rainbow and Yellowstone cutthroat trout that have interbred with westslope cutthroat trout creating hybrid populations. Presently these populations are providing sources of hybrid trout that threaten genetically pure native cutthroat trout populations downstream of the lakes and in the South Fork Flathead River.

Purpose and Need for Action: Development of the hydropower system in the Columbia River Basin has had far-reaching effects on many species of fish and wildlife. BPA is responsible for protecting, mitigating, and enhancing fish and wildlife affected by the development, operation, and management of Federal hydroelectric facilities on the Columbia River and its tributaries. (See Pacific Northwest Electric Power Planning and Conservation Act, 16 U.S.C. 839b(h)(10)(A).) BPA meets this responsibility, in part, by funding projects identified through a regional process led by the Northwest Power Planning Council. The South Fork Flathead Watershed/Westslope Cutthroat Trout Conservation Program, a portion of the Hungry Horse Dam Mitigation Program, was proposed by MFWP for BPA funding. The project is a cooperative effort with MFWP and USFS, Flathead National Forest.

Of the 355 lakes in the South Fork drainage above Hungry Horse Dam, 50 have fish. Twenty-nine of these have genetically pure populations of native westslope cutthroat trout and approximately 21 have hybrid populations (confirmed through the University of Montana's Wild Trout and Salmon Genetics Laboratory)—see Sage, Huston, Leary, Rumsey and Cavigli cited below). The lakes with hybrid populations are being targeted in this project.

Genetic contamination by exotic trout occurred in the past when anglers or fish managers planted the lakes with non-native rainbow and Yellowstone cutthroat trout to provide or enhance recreational angling opportunities. Some of the lakes have no record of stocking of these species, but the exotic trout are present in the lakes. Genetic surveys have shown that exotic populations in headwater lakes are out-migrating. This threatens to compromise the genetic integrity of pure stocks downstream (Huston 1988, Huston 1989, Huston 1990, Sage 1993, Leary 2002, Rumsey and Cavigli 2002). Extensive examination of westslope cutthroat trout in the South Fork Flathead River presently confirms their genetic purity; however, their continued genetic purity is at great risk due to hybridization from upstream lakes.

Since 1986, most of the lakes have been stocked with genetically pure westslope cutthroat trout from Montana State's M012 brood stock in an attempt to shift the populations toward a genetically pure state through progressive inbreeding. The M012 stock was derived from wild westslope cutthroat trout from 12 populations in the South Fork Flathead River drainage and two from the Clark Fork River drainage. Once the wild fish were acclimated to the hatchery, they were genetically tested to assure purity.

The underlying need for action is to protect the genetically pure populations of native westslope cutthroat trout currently existing in the Flathead River Watershed from hybridization with rainbow trout and Yellowstone cutthroat trout.

Proposed Action: The Proposed Action is to remove all fish from selected lakes in the South Fork of the Flathead River Watershed in the Flathead National Forest, the Bob Marshall Wilderness, and the Jewel Basin Hiking Area. These selected lakes harbor non-native species that threaten to enter and genetically contaminate streams leading from those lakes, down into the Flathead River and Hungry Horse Reservoir. There are approximately 21 lakes targeted for treatment. Two or three lakes would be treated each year for about a 10-year period. The proposed method of fish removal is to utilize registered compounds that are toxic to fish.

Floodplains and Wetlands: In accordance with DOE regulations for compliance with floodplains and wetlands environmental review requirements, BPA will prepare a floodplain and wetlands assessment and will perform this proposed action in a manner so as to avoid or minimize potential harm to or within the affected floodplain and wetlands. The assessment and a floodplain statement of findings will be included in the EIS being prepared for the proposed project in accordance with the National Environmental Policy Act (NEPA).

Process to Date: BPA sent a letter to the public dated November 16, 2001, announcing that an Environmental Assessment (EA) would be developed for this project. In preparing the EA, BPA and USFS identified issues that may be significant in the context of NEPA and, therefore, the agencies decided that an EIS should be prepared.

Alternatives Proposed for Consideration: (1) The application of fish-killing toxins, either with Rotenone or Antimycin, by aircraft and motorboat, with transportation to the lakes by aircraft, livestock, or vehicle. (2) Alternative methods for removing fish include angling, genetic “swamping,” introducing predatory fish, construction of fish passage barriers, gill netting, seining, trap netting, electrofishing, explosives, and lake dewatering. (3) Not removing the fish (or the No-Action Alternative) is also proposed for consideration.

Identification of Environmental Issues: The potential environmental issues identified for most fish and wildlife projects include land use, cultural resources, sensitive plants and animals, erosion/soils, wetlands, floodplains, and fish and water resources. The significant environmental issues for this project may include the use of helicopters and motorized equipment in the wilderness, and potential impacts to amphibians and other non-targeted species from the use of fish toxins.

Public Participation: The scoping process will help BPA ensure that a full range of issues related to this proposal is addressed in the EIS, and also will identify significant or potentially significant impacts that may result from the proposed project. This notice of intent is a major component of the scoping process and guides the development of the EIS. BPA has established a 45-day scoping period during which affected landowners, concerned citizens, special interest groups, local governments, and any other interested parties are invited to comment on the scope of the proposed EIS. Public and internal scoping on this project will also include, in addition to the information gathered during BPA's related EA process, one public open house meeting; one mailing to Federal, State and local agencies, organizations, and individuals; personal conversations between interdisciplinary team members and the public; and news media releases.

When completed, the Draft EIS will be circulated for review and comment for 45 days, and a meeting will be held with the public to discuss the Draft EIS. BPA and the cooperating agencies will consider and respond in the Final EIS to comments received on the Draft EIS.

Maps and further information are available from BPA at the address above.

Issued in Portland, Oregon, on April 25, 2003.
Stephen J. Wright,
Administrator and Chief Executive Officer.

[FR Doc. 03-11010 Filed 5-2-03; 8:45 am]

BILLING CODE 6450-01-P